DEPARTMENT OF COMMERCE

National Oceanic and Atmospheric Administration

U.S. Integrated Ocean Observing System (IOOS®) Advisory Committee

AGENCY: National Ocean Service, National Oceanic and Atmospheric Administration (NOAA), Department of Commerce.

ACTION: Notice of open meeting.

SUMMARY: Notice is hereby given of a meeting of the U.S. Integrated Ocean Observing System (IOOS®) Advisory Committee (Committee) in Washington, DC.

DATES: The meeting will be held on Wednesday, April 19, 2017, from 8:30 a.m. to 5:00 p.m. and Thursday, April 20, 2017, from 8:30 a.m. to 3:00 p.m. These times and the agenda topics described below are subject to change. Refer to the Web page listed below for the most up-to-date meeting agenda.

ADDRESSES: On Wednesday, April 19, 2017, the meeting will be held in the Conference Room, 11th Floor, Consortium for Ocean Leadership, 1201 New York Avenue NW., Washington, DC 20005. On Thursday, April 20, 2017, the meeting will be held in the Conference Room, 4th Floor, Consortium for Ocean Leadership, 1201 New York Avenue NW., Washington, DC 20005.

FOR FURTHER INFORMATION CONTACT: Carl Gouldman, Designated Federal Official, U.S. IOOS Advisory Committee, U.S. IOOS Program, 1315 East-West Highway, Second Floor, Silver Spring, MD 20910; Phone (240) 533-9456; Fax (301) 713-3281; Email carl.gouldman@noaa.gov or visit the U.S. IOOS Advisory Committee Web site at http://ioos.noaa.gov/community/u-s-ioos-advisory-committee/.

SUPPLEMENTARY INFORMATION: The Committee was established by the NOAA Administrator as directed by Section 12304 of the Integrated Coastal and Ocean Observation System Act, part of the Omnibus Public Land Management Act of 2009 (Pub. L. 111-11). The Committee advises the NOAA Administrator and the Interagency Ocean Observation Committee (IOOC) on matters related to the responsibilities and authorities set forth in section 12302 of the Integrated Coastal and Ocean Observation System Act of 2009 and other appropriate matters as the Under Secretary refers to the Committee for review and advice. The Committee will provide advice on:

(a) Administration, operation, management, and maintenance of the System;

(b) Expansion and periodic modernization and upgrade of technology components of the System;

(c) Identification of end-user communities, their needs for information provided by the System, and the System's effectiveness in dissemination information to end-user communities and to the general public; and

(d) Any other purpose identified by the Under Secretary of Commerce for Oceans and Atmosphere or the Interagency Ocean Observation Committee.

The meeting will be open to public participation with a 15-minute public comment period on April 19, 2017, from 4:35 p.m. to 4:50 p.m. and on April 20, 2017, from 2:30 p.m. to 2:45 p.m. (check agenda on Web site to confirm time.) The Committee expects that public statements presented at its meetings will not be repetitive of previously submitted verbal or written statements. In general, each individual or group making a verbal presentation will be limited to a total time of three (3) minutes. The Designated Federal Official should receive written comments by April 18, 2017, to provide sufficient time for Committee review. Written comments received after April 18, 2017, will be distributed to the Committee, but may not be reviewed prior to the meeting date. Seats will be available on a first-come, first-served basis.

Matters to be Considered: The meeting will focus on ongoing committee priorities, including discussions on the integration challenges of the IOOC, expanding on the big data topic, and developing the next set of recommendations. The latest version will be posted at http://ioos.noaa.gov/community/u-s-ioos-advisory-committee/.

Special Accommodations: These meetings are physically accessible to people with disabilities. Requests for sign language interpretation or other auxiliary aids should be directed to Carl Gouldman, Designated Federal Official at (240) 533-9456 by April 14, 2017.

Dated: March 13, 2017.
Carl Gouldman,
Director, U.S. IOOS Program, National Ocean Service.

[FR Doc. 2017-05640 Filed 3-21-17; 8:45 am]

BILLING CODE 3510-22-P